DEPARTMENT OF ENERGY

Federal Energy Regulatory Commission

[Docket No. ER13-1864-000]

Southwest Power Pool, Inc.; Supplemental Notice of Technical Conference

As announced in the Notice of Technical Conference issued on August 11, 2014, and as required in the Commission's July 11, 2014 order in this docket,¹ Commission staff will hold a technical conference on Monday, September 22, 2014, regarding Southwest Power Pool, Inc.'s (SPP) proposed modifications to its Joint Operating Agreement with Midcontinent Independent System Operator, Inc. (MISO) to implement a market-to-market coordination mechanism (Market-to-Market protocols). The technical conference will be held at the Federal Energy Regulatory Commission, 888 First Street NE., Washington, DC, in the Commission Meeting Room and will be open for the public to attend. The technical conference will not be webcast.

¹ Southwest Power Pool, Inc., 148 FERC ¶ 61,019 (2014).

Advance registration is required for all attendees. Attendees may register in advance at the following Web page: https://www.ferc.gov/whats-new/registration/09-22-14-form.asp. Attendees should allow time to pass through building security procedures before the 9:30 a.m. (Eastern Time) start time of the technical conference.

The discussion at the technical conference is limited to the following issues regarding the proposed Market-to-Market protocols: (1) The implementation of Interface Bus Pricing (proposed section 2); (2) the creation of Market-to-Market flowgates (proposed sections 3.1.13 and 8.1.4); and (3) the deferred implementation of a Day-Ahead Firm Flow Entitlement exchange process (proposed section 4). Additional topics at issue in this proceeding will not be addressed, nor will topics at issue in other pending, contested proceedings.

An entity that has moved to intervene or submitted a notice of intervention in this proceeding may request to participate in the technical conference by contacting Helen Shepherd, 202-502-6176, helen.shepherd@ferc.gov, by close of business September 17, 2014, identifying which issue(s) it wishes to discuss and the name(s) of the person(s) participating. Other attendees who have not requested to participate in advance may ask questions or make comments as time permits.

FERC conferences are accessible under section 508 of the Rehabilitation Act of 1973. For accessibility accommodations please send an email to accessibility@ferc.gov or call toll free 1-866-208-3372 (voice) or 202-502-8659 (TTY); or send a fax to 202-208-2106 with the required accommodations.

The technical conference will consist of three sessions, as detailed below. The times given below are approximate and may change, as needed. As time permits, at the end of each session staff will open the floor for questions and comments from attendees.

Conference Introduction: Commission Staff—(9:30 a.m.-9:45 a.m.)

Session 1: Interface Bus Pricing Methodology—(9:45 a.m.-11:15 a.m.)

Participants are asked to be prepared to discuss the issue of interface bus pricing methodology raised in the MISO Independent Market Monitor's comments in this proceeding, and to answer questions including, but not limited to, the following: How does SPP propose to define the interface bus and how does SPP propose to calculate interface bus prices? How will MISO define the interface bus and how will MISO calculate interface bus prices? Have SPP and MISO conducted any market simulations/parallel operations employing the proposed calculations? If so, have there been any issues with SPP's or MISO's definition or calculation method? If there have been issues, what steps have SPP and MISO taken to resolve these issues?

Break: (11:15 a.m.-11:30 a.m.)

Session 2: Day-Ahead Firm Flow Entitlement (FFE) Exchange Process Deferral (11:30 a.m.-12:30 p.m.)

Participants are asked to be prepared to answer questions including, but not limited to, the following: What concerns led MISO and SPP to decide to defer implementation of a day-ahead FFE exchange process? What are the benefits (to each RTO, to the overall system, to customers) of implementing a day-ahead FFE exchange process, in terms of congestion-management, cost-savings, or other factors? How will MISO and SPP systematically analyze whether to implement a day-ahead FFE exchange process?

Lunch Break: (12:30 p.m.-1:30 p.m.)

Session 3: Creation of Market-to-Market Flowgates—(1:30 p.m.-3:45 p.m.)

Participants are asked to be prepared to answer questions including, but not limited to, the following: What are the benefits of creating additional Market-to-Market flowgates? What are the costs of delaying the creation of additional Market-to-Market flowgates? Should Market-to-Market flowgates be created to address long-term concerns only, or should they be created to address short-term concerns as well? Why is it important to have mutually agreed upon scheduling timeframes for the creation of Market-to-Market flowgates? Does Market-to-Market flowgate creation affect congestion, and if so, how?

Conference Conclusion: Next Steps—(3:45 p.m.-4:00 p.m.)

Following the technical conference, the Commission will consider post-technical conference comments submitted on or before October 7, 2014. Reply comments are due on or before October 22, 2014.

For more information about this technical conference, please contact Sarah McKinley, 202-502-8368, sarah.mckinley@ferc.gov, regarding logistical issues, or Helen Shepherd, 202-502-6176, helen.shepherd@ferc.gov, regarding substantive issues.

Dated: August 29, 2014.
Kimberly D. Bose,
Secretary.

[FR Doc. 2014-21203 Filed 9-5-14; 8:45 am]

BILLING CODE 6717-01-P